DEPARTMENT OF JUSTICE

[OMB Number 1110-0053]

Agency Information Collection Activities; Proposed eCollection eComments Requested; Extension of a Currently Approved Collection; FBI eFOIA Form

AGENCY: Federal Bureau of Investigation, Department of Justice.

ACTION: 60-Day notice.

SUMMARY: The Federal Bureau of Investigation, Department of Justice (DOJ), will be submitting the following information collection request to the Office of Management and Budget (OMB) for review and approval in accordance with the Paperwork Reduction Act of 1995.

DATES: Comments are encouraged and will be accepted for 60 days until May 14, 2024.

FOR FURTHER INFORMATION CONTACT: If you have additional comments especially on the estimated public burden or associated response time, suggestions, or need a copy of the proposed information collection instrument with instructions or additional information, please contact Shannon Hammer, Public Information Officer, FBI, at 200 Constitution Drive, Winchester, VA 22602, or 540.868.4593 or foipaquestions@fbi.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: This voluntary form allows requesters to make a FOIA request via an electronic submission. This information collection is to allow the Federal Bureau of Investigation to accept and responded to Freedom of Information Act (FOIA) requester as defined in 28 CFR part 16.3:

Overview of This Information Collection

1. Type of Information Collection: Extension of a previously approved collection.

2. The Title of the Form/Collection: FBI eFOIA Form.

3. The agency form number, if any, and the applicable component of the Department sponsoring the collection: DOJ, FBI.

4. Affected public who will be asked or required to respond, as well as the obligation to respond: Affected Public: Individuals or households. The obligation to respond is voluntary.

5. An estimate of the total number of respondents and the amount of time estimated for an average respondent to respond: An estimated 32,100 FOIA requests are completed annually. The requests can be submitted via free-form letter or the eFOIA form. In FY2023 approximately 1,053 online eFOIA forms were submitted. An average of 8 minutes per respondent is needed to complete the eFOIA form.

6. An estimate of the total annual burden (in hours) associated with the collection: The burden hours for collecting data sum is 140 hours.

7. An estimate of the total annual cost burden associated with the collection, if applicable: $1,000.00.

Total Burden Hours
Activity | Number of respondents | Frequency | Total annual responses | Time per response (min) | Total annual burden (hours)
e-FOIA Form | 1,053 | 1/annually | 1,053 | 8 | 140

If additional information is required contact: Darwin Arceo, Department Clearance Officer, United States Department of Justice, Justice Management Division, Policy and Planning Staff, Two Constitution Square, 145 N Street NE, 4W-218, Washington, DC.

Dated: March 11, 2024.
Darwin Arceo,
Department Clearance Officer for PRA, U.S. Department of Justice.

[FR Doc. 2024-05469 Filed 3-14-24; 8:45 am]

BILLING CODE 4410-02-P